DEPARTMENT OF TRANSPORTATION

Federal Aviation Administration

Notice of Intent To Rule on Proposed Land Use Changes to Surplus Property at the Jacksonville Executive at Craig Airport, Jacksonville, FL

AGENCY: Federal Aviation Administration (FAA), DOT.

ACTION: Request for public comment.

SUMMARY: Notice is being given that the FAA is considering a request from the Jacksonville Aviation Authority (JAA) to change 79.23 acres of airport property from aeronautical use to non-aeronautical use for commercial development at Jacksonville Executive at Craig Airport in Jacksonville, Florida. The surplus property land is no longer required for aviation use. The land has been designated for non-aeronatucal use on the Airport Layout Plan. JAA will enter into a land lease agreement with a commercial developer, which will generate non-aeronautical revenue to be used for the operation and maintenance of the airport.

DATES: Comments are due on or before November 9, 2023.

ADDRESSES: Documents are available for review at the FAA Orlando Airports District Office, 8427 SouthPark Circle, Suite 524, Orlando, FL 32819. Written comments on the Sponsor's request must be delivered or mailed to: Ryan Allen, Community Planner, Orlando Airports District Office, 8427 SouthPark Circle, Suite 524, Orlando, FL 32819.

FOR FURTHER INFORMATION CONTACT: Ryan Allen, Community Planner, Orlando Airports District Office, 8427 SouthPark Circle, Suite 524, Orlando, FL 32819, or by telephone at (407) 487-7086.

SUPPLEMENTARY INFORMATION: Section 125 of The Wendell H. Ford Aviation Investment and Reform Act for the 21st Century (AIR-21) requires the FAA to provide an opportunity for public notice and comment prior to the “waiver” or “modification” of a Sponsor's Federal obligation to use certain airport land for non-aeronautical purposes.

Bartholomew Vernace,
Manager, Orlando Airports District Office, Southern Region.

[FR Doc. 2023-22365 Filed 10-6-23; 8:45 am]

BILLING CODE 4910-13-P